NATIONAL FOUNDATION ON THE ARTS AND HUMANITIES

Museum Grants for African-American History and Culture Program Guidelines, Submission for OMB Review, Comment Request

Correction

In notice document 06-3653 beginning on page 19903 in the issue of Tuesday, April 18, 2006, make the following corrections:

1. On page 19903, in the third column, the subject heading should be as set forth above.

2. On page 19904, in the second column, under the “II. Current Actions” heading, in the sixteenth line from the top, “Total Burden Hours: 750” should read “Total Burden Hours: 1,750”.

[FR Doc. C6-3653 Filed 4-27-06; 8:45 am]

BILLING CODE 1505-01-D

DEPARTMENT OF TRANSPORTATION

National Highway Traffic and Safety Administration

49 CFR Part 571

[Docket No. NHTSA 2006-24455]

RIN 2127-AJ78

Federal Motor Vehicle Safety Standards; Power-Operated Window, Partition, and Roof Panel Systems

Correction

In rule document 06-3505 beginning on page 18673 in the issue of Wednesday, April 12, 2006, make the following correction:

§ 571.118 [Corrected]

On page 18683, in § 571.118, in the third colum, in the third paragraph, starting in the third line, “20 mm + 0.2 mm” should read “20 mm ± 0.2mm”.

[FR Doc. C6-3505 Filed 4-27-06; 8:45 am]

BILLING CODE 1505-01-D